FEDERAL COMMUNICATIONS COMMISSION

[Report No. 2839]

Petitions for Reconsideration of Action in Rulemaking Proceeding

November 5, 2007.

Petitions for Reconsideration have been filed in the Commission's Rulemaking proceeding listed in this Public Notice and published pursuant to 47 CFR 1.429(e). The full text of these documents are available for viewing and copying in Room CY-B402, 445 12th Street, SW., Washington, DC or may be purchased from the Commission's copy contractor, Best Copy and Printing, Inc. (BCPI) (1-800-378-3160). Oppositions to these petitions must be filed by December 3, 2007. See Section 1.4(b)(1) of the Commission's rules (47 CFR 1.4(b)(1). Replies to oppositions must be filed within 10 days after the time for filing oppositions have expired.

Subject: In the Matter of Amendment of Section 73.202(b), Table of Allotments, FM Broadcast Stations (Fishers, Lawrence, Indianapolis and Clinton, Indiana) (MB Docket No. 05-67).

Number of Petitions Filed: 1.

Subject: In the Matter of Amendment of Section 73.202(b), Table of Allotments, FM Broadcast Stations (Corona de Tucson, Sierra Vista, Tanque Verde and Vail, Arizona; Animas, Lordsburg and Virden, New Mexico) (MB Docket No. 05-245).

Number of Petitions Filed: 1.

Marlene H. Dortch,
Secretary.

[FR Doc. E7-22523 Filed 11-15-07; 8:45 am]

BILLING CODE 6712-01-P